DEPARTMENT OF DEFENSE

Department of the Army

Record of Decision for 2d Armored Cavalry Regiment Transformation and Installation Mission Support, Joint Readiness Training Center (JRTC) and Fort Polk, Louisiana, and Long-Term Military Training Use of Kisatchie National Forest Lands

AGENCY: Department of the Army, DoD.

ACTION: Notice of availability of Record of Decision.

SUMMARY: The Department of the Army announces the availability of its Record of Decision (ROD) for 2d Armored Cavalry Regiment (2d ACR) Transformation and Installation Mission Support, Joint Readiness Training Center (JRTC) and Fort Polk, Louisiana, and Long Term Military Training Use of Kisatchie National Forest Lands. On March 19, 2004, the Army published a Notice of Availability of its Final Environmental Impact Statement (EIS) that considered the environmental consequences of the proposed actions and alternatives. The ROD describes the Army's decisions with respect to the proposed actions and alternatives considered in the EIS and its rationale for the decision. Based on the EIS and other relevant factors, the Army has decided to implement its proposed actions. This decision allows the Army to proceed with transformation of the 2d ACR at the JRTC and Fort Polk, Louisiana, and to undertake additional actions to support the installation's current and future missions. The decision includes fielding of the Army's new Stryker vehicle and equipment; construction and improvement of firing ranges, roads, stream crossings, and training support facilities; land use agreements and leases; creation and expansion of helicopter training areas; training and deployment of Army troops; and continued environmental stewardship. The decision also affirms the Army's commitment to implementing a series of mitigation and monitoring measures to offset potential adverse environmental impacts associated with the proposed actions, as identified in the Final EIS.

ADDRESSES: Requests for copies of the ROD may be submitted to: Dan Nance, Fort Polk Public Affairs Office, 7073 Radio Road, Fort Polk, LA 71459-5342; phone: (337) 531-7203; fax: (337) 531-6014; e-mail: eis@polk.army.mil.

FOR FURTHER INFORMATION CONTACT: Stacy Basham-Wagner, Joint Agency Liaison, Attention: AFZX-PW-E (Basham-Wagner), 1799 23rd Street, Fort Polk, LA 71459; telephone: (337) 531-7458, fax: (337) 531-2627.

SUPPLEMENTARY INFORMATION: The Department of the Army, as the lead agency, and the U.S. Department of Agriculture, Forest Service and U.S. Department of Transportation, Federal Aviation Administration (FAA), as cooperating agencies, prepared the EIS for 2d ACR Transformation and Installation Mission Support, JRTC and Fort Polk, Louisiana, and Long Term Military Training Use of Kisatchie National Forest Lands. The EIS was prepared to address proposed actions affecting the JRTC and Fort Polk, portions of the Kisatchie National Forest in west-central Louisiana; and England Industrial Airpark at Alexandria, Louisiana. The EIS identified the relevant environmental and socioeconomic impacts of the proposed actions and alternatives on the biological, physical, and cultural environment.

The Army has designated the 2d ACR to transform to the 2d Cavalry Regiment (2d CR), a medium-weight force equipped with Stryker vehicles that will be strategically responsive and more rapidly deployable by air. In addition to transformation of the 2d ACR, units stationed at other Army installations will participate in exercises at the JRTC and Fort Polk on a rotational basis. To these ends, the Army has decided to implement force transformation and installation mission support activities at the JRTC and Fort Polk with respect to home station training (maneuver and gunnery exercises for Army units assigned to Fort Polk), rotational unit exercises, and facilities construction.

In accordance with Forest Service decisions, the Army will also continue its use of Kisatchie National Forest lands to support military training. The areas of the Kisatchie National Forest to be used by the Army are known as the Intensive Use Area and Limited Use Area of the Vernon Unit, Calcasieu Ranger District and the Special Limited Use Area (also known as Horse's Head) of the Kisatchie Ranger District.

Transformation of the 2d ACR will involve force structure changes (the unit will have approximately 110 more personnel); the addition of approximately 238 Stryker Interim Armored Vehicles and 48 Mobile Gun Systems; and a reduction of approximately 155 High Mobility Multipurpose Wheeled Vehicles and 273 other medium and heavy tactical trucks. The Shadow Tactical Unmanned Aerial Vehicle will also be fielded to the 2d ACR to support reconnaissance, surveillance and target acquisition missions.

Installation mission support activities will include 19 of 20 proposed construction projects on Army lands, national forest lands, and at England Industrial Airpark in Alexandria, Louisiana. The projects include 13 facilities in the Fort Polk cantonment area, road construction/improvements and construction of a sniper range in the Intensive Use Area, construction of 20 stream crossings in the Limited Use Area, and 3 deployment support facilities at England Industrial Airpark. The JRTC and Fort Polk will also create additional helicopter training area and expand an existing helicopter training area within Military Operations Airspace overlying adjacent privately owned lands.

In making its decision, the Army considered the analysis of effects contained in the EIS, assessment of the alternatives in relationship to the primary issues of concern, comments provided during formal public review periods, and Army-wide transformation, national security and mission requirements. The Army determined that the proposed actions best meet its underlying purpose and need, and that the proposed action reflects a proper balance between mission imperatives and goals for protection of the environment.

The no action alternative (considered in detail in the EIS) was not selected for implementation because it would not support the Army's purpose and need for action. Failure to transform the 2d ACR and to provide the needed training and support facilities and lands to meet ongoing and future mission requirements of the JRTC and Fort Polk could place at risk the Army's readiness and ultimately could hinder national security interests. Six other alternatives were considered but eliminated from detailed study in the EIS because they were not deemed “reasonable” or did not meet the Army's purpose and need for action.

The Army has deferred a decision on whether or not to proceed with digitization and expansion of the existing Multi-Purpose Range Complex (MPRC) on Fort Polk's main post. A decision on this project was deferred to insure full consideration of its environmental consequences, in light of evolving project elements and designs. Additional environmental impacts analysis will be conducted on the proposed digitization and upgrade of the MPRC in order to ensure full understanding of potential impacts. That future study may be tiered from the Final EIS.

The Army ROD also includes a series of 15 mitigation and monitoring measures to rectify, reduce, or eliminate adverse effects to land cover, soils, water quality, and biological resources on both Army and Forest Service lands. The Army and Forest Service have jointly developed a Sustainability and Environmental Monitoring Plan to evaluate the effectiveness of the mitigation measures. Results of monitoring will be made available to the public and stakeholders on an annual basis and used to inform future management and decision-making by both agencies.

The Forest Service published a legal notice of its decision on March 16, 2004, and distributed its ROD with the Final EIS. Based on the Final EIS, the Forest Service decided to authorize certain Army activities and land uses in specified areas of the Forest over a 20-year period (2004-2024). Army use of Kisatchie National Forest lands will be governed by the terms and conditions of a Special Use Permit issued by the Forest Service. The Forest Service has also decided to conduct thinning over a 10-year period of approximately 21,500 acres of upland pine stands on the Intensive Use Area of the Forest to improve habitat conditions for the endangered red-cockaded woodpecker, and to improve the suitability of the land for military training.

The FAA intends to rely on analyses in this EIS to make decisions concerning the Alexandria International Airport Layout Plan as it may be affected by three Army projects proposed to occur at the airport and consequent movement of aircraft, materiel, and personnel through that facility.

Copies of the Army and Forest Service ROD's and the Final EIS are available for review at the following libraries: Allen Parish Library (Oberlin Branch), 320 S. Sixth Street, Oberlin; Beauregard Parish Library, 205 South Washington Avenue, DeRidder; Calcasieu Public Library, 301 W. Claude Street, Lake Charles; East Baton Rouge Parish Library, 7711 Goodwood Boulevard, Baton Rouge; Lafayette Public Library, 301 W. Congress Street, Lafayette; Lincoln Parish Library, 509 West Alabama Avenue, Ruston; Natchitoches Parish Library, 431 Jefferson Street, Natchitoches; New Orleans Public Library (Orleans Parish); 219 Loyola Avenue, New Orleans; New Orleans Public Library (Algiers Point Branch), 725 Pelican Avenue, New Orleans; Ouachita Parish Library, 1800 Stubbs Avenue, Monroe; Rapides Parish Library, 411 Washington Street, Alexandria; Vernon Parish Library, 1401 Nolan Trace, Leesville; Sabine Parish Library, 705 Main Street, Many, Louisiana; and Shreve Memorial Library (Caddo Parish), 424 Texas Street (71101), Shreveport, Louisiana. The Army and Forest Service ROD's and Final EIS, as well as additional information concerning the EIS process, may also be reviewed at http://notes.tetratech-ffx.com/PolkEIS.nsf.

Dated: June 15, 2004.
Raymond J. Fatz,
Deputy Assistant Secretary of the Army, (Environment, Safety and Occupational Health) OASA(I&E).

[FR Doc. 04-14043 Filed 6-21-04; 8:45 am]

BILLING CODE 3710-08-M